DEPARTMENT OF VETERANS AFFAIRS

[OMB Control No. 2900—New (VA Form 10-0533a-c)]

Agency Information Collection: Emergency Submission for OMB Review (Telehealth in the Parkinson's Disease Research, Education and Clinical Center (PADRECC): The Key to the Patient-Centered Medical Home?); Comment Request

AGENCY: Veterans Health Administration, Department of Veterans Affairs.

ACTION: Notice.

SUMMARY: In compliance with the Paperwork Reduction Act (PRA) of 1995 (44 U.S.C., 3501-3521), this notice announces that the United States Department of Veterans Affairs (VA), will submit to the Office of Management and Budget (OMB) the following emergency proposal for the collection of information under the provisions of the Paperwork Reduction Act (44 U.S.C. 3507(j)(1)). An emergency clearance is being requested for information needed to improve the care and clinical outcomes of patients with Parkinson's disease.

DATES: Comments must be submitted on or before August 31, 2012.

ADDRESSES: Send comments and recommendations concerning any aspect of the information collection to VA's OMB Desk Officer, OMB Human Resources and Housing Branch, New Executive Office Building, Room 10235, Washington, DC 20503 (202) 395-7316 or FAX (202) 395-6974. Please refer to “2900—New (VA Form 10-0533a-c).

FOR FURTHER INFORMATION CONTACT: Denise McLamb, Enterprise Records Service (005R1B), Department of Veterans Affairs, 810 Vermont Avenue NW., Washington, DC 20420, (202) 632-7479, FAX (202) 632-7583 or email: denise.mclamb@va.gov. Please refer to “OMB Control No. 2900—New (VA Form 10-0533a-c).”

SUPPLEMENTARY INFORMATION:

Titles:

a. PACT “Telehealth in the Parkinson's Disease Research, Education and Clinical Center (PADRECC): The Key to the Patient-Centered Medical Home?”, VA Form 10-0533.

b. Geriatric Depression Scale (GDS) Short Form, VA Form 10-5033a.

c. Quality of Life in Parkinson's Disease, VA Form 10-0533b.

d. Cost and Patient Outcomes Questions, VA Form 10-0533c.

OMB Control Number: 2900—New (VA Form 10-0533a-c).

Type of Review: New data collection.

Abstract: The data collected on VA Forms 10-0533a-c will be used to obtain data on the cost, clinical outcomes, and patient satisfaction associated with expanded access to PADRECC care through the use of telehealth. VA will use the information to assess whether or not the use of telehealth is feasible, cost-effective, and clinically equivalent alternative to routine face-to-face care for patients with Parkinson's disease.

Affected Public: Individuals or households.

Estimated Annual Burden: 116 burden hours.

Estimated Average Burden per Respondent: 4.4 minutes.

Frequency of Response: On occasion.

Estimated Number of Respondents: 400.

Estimated Number of Responses: 1,600.

Dated: August 16, 2012.
By direction of the Secretary.
Denise McLamb,
Program Analyst Director, Enterprise Records Service.

[FR Doc. 2012-20456 Filed 8-20-12; 8:45 am]

BILLING CODE 8320-01-P